DEPARTMENT OF HEALTH AND HUMAN SERVICES

Centers for Disease Control and Prevention

[30-Day-08-0679]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Division for Heart Disease and Stroke Prevention Management Information System—Revision—National Center for Chronic Disease Prevention and Health Promotion (NCCDPHP), Centers for Disease Control and Prevention (CDC).

Background and Brief Description

The Centers for Disease Control, Division for Heart Disease and Stroke Prevention (DHDSP) currently funds Heart Disease and Stroke Prevention Programs (HDSPP) in 33 states and the District of Columbia. HDSP programs are population-based, State public health programs that design, implement, and evaluate public health prevention and control strategies to reduce disease, disability and death related to heart disease and stroke, and to reach those populations with disparities related to cardiovascular disease. Support for these programs is a cornerstone of DHDSP efforts to reduce the burden of cardiovascular disease throughout the nation.

Recipients of HDSPP funding are required to submit semi-annual progress reports to CDC via an electronic management information system (OMB no. 0920-0679). Information collected through the MIS allows CDC to monitor, evaluate and manage programs and resources; identify the strengths and weaknesses of individual programs; and disseminate information related to successful public health interventions.

The DHDSP also provides funding for 15 WISEWOMAN projects in 14 states. The WISEWOMAN program offers screening tests for chronic diseases, and lifestyle interventions designed to change behavioral risk factors for chronic diseases. Recipients of WISEWOMAN funding include 13 State health departments and 2 Tribal organizations.

With this Revision, questions specific to the WISEWOMAN program will be incorporated into the Cardiovascular Health Branch MIS, and recipients of WISEWOMAN funding will be added as new respondents. In addition, the name of the MIS will be changed from the Cardiovascular Health Branch MIS to the Division for Heart Disease and Stroke Prevention MIS, to reflect organizational changes within CDC.

There are no costs to respondents other than their time. The estimated annualized burden hours are 588.

Estimated Annualized Burden Hours
Type of respondents | Number of respondents | Number of responses per respondent | Average burden per response (in hours)
Heart Disease and Stroke Prevention Programs | 34 | 2 | 6
WISEWOMAN Programs | 15 | 2 | 6

Dated: January 16, 2008.
Maryam I. Daneshvar,
Acting Reports Clearance Officer, Centers for Disease Control and Prevention.

[FR Doc. E8-1257 Filed 1-24-08; 8:45 am]

BILLING CODE 4163-18-P